ENVIRONMENTAL PROTECTION AGENCY

40 CFR Part 52

[EPA-R04-OAR-2010-0663-201037; FRL-9212-7]

Approval and Promulgation of Implementation Plans; Tennessee: Approval of Section 110(a)(1) Maintenance Plan for the 1997 8-Hour Ozone Standards for the Nashville, TN Area

AGENCY: Environmental Protection Agency (EPA).

ACTION: Proposed rule.

SUMMARY: EPA is proposing to approve a draft revision to the Tennessee State Implementation Plan (SIP), submitted to EPA on August 3, 2010, for parallel processing. The proposed revision modifies Tennessee's SIP to address the required maintenance plan for the 1997 8-hour ozone standards for the Nashville, Tennessee 1997 8-hour ozone maintenance area, hereafter referred to as “the Nashville Area.” The Nashville Area is comprised of Davidson, Rutherford, Sumner, Williamson, and Wilson Counties in their entireties. This maintenance plan was submitted to EPA by the State of Tennessee, through the Tennessee Department of Environment and Conservation (TDEC), to ensure the continued attainment of the 1997 8-hour ozone national ambient air quality standards (NAAQS) through the year 2018 in the Nashville Area. EPA is approving the SIP revision pursuant to section 110 of the Clean Air Act (CAA). This maintenance plan meets all the statutory and regulatory requirements, and is consistent with EPA's guidance.

DATES: Comments must be received on or before November 8, 2010.

ADDRESSES: Submit your comments, identified by Docket ID No. EPA-R04-OAR-2010-0663, by one of the following methods:

1. http://www.regulations.gov: Follow the on-line instructions for submitting comments.

2. E-mail: benjamin.lynorae@epa.gov.

3. Fax: (404) 562-9019.

4. Mail: EPA-R04-OAR-2010-0663, Regulatory Development Section, Air Planning Branch, Air, Pesticides and Toxics Management Division, U.S. Environmental Protection Agency, Region 4, 61 Forsyth Street, SW., Atlanta, Georgia 30303-8960.

5. Hand Delivery or Courier: Lynorae Benjamin, Chief, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 a.m. to 4:30 p.m., excluding federal holidays.

Instructions: Direct your comments to Docket ID No. EPA-R04-OAR-2010-0663. EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 a.m. to 4:30 p.m., excluding federal holidays.

FOR FURTHER INFORMATION CONTACT: Royce Dansby-Sparks, Regulatory Development Section, Air Planning Branch, Air, Pesticides and Toxics Management Division, U.S. Environmental Protection Agency, Region 4, 61 Forsyth Street, SW., Atlanta, Georgia 30303-8960. The telephone number is (404) 562-9187. Mr. Dansby-Sparks can also be reached via electronic mail at dansby-sparks.royce@epa.gov.

SUPPLEMENTARY INFORMATION:

Table of Contents

I. Background

II. EPA's Analysis of Tennessee's Submittal

III. Proposed Action

IV. Statutory and Executive order Reviews

I. Background

In accordance with the CAA, the Nashville Area was designated nonattainment for the 1-hour ozone NAAQS on November 6, 1991, 56 FR 56694 (effective January 6, 1992, 60 FR 7124). On November 14, 2004, the State of Tennessee, through the TDEC, submitted a request to redesignate the Nashville Area to attainment for the 1-hour ozone NAAQS (see 61 FR 55903). Subsequently on August 9, 1995, and January 19, 1996, Tennessee submitted supplementary information which included revised contingency measures and emission projections. Included with the 1-hour ozone redesignation request, Tennessee submitted the required 1-hour ozone monitoring data and maintenance plan ensuring the Area would remain in attainment for the 1-hour ozone NAAQS for at least a period of 10 years (consistent with CAA 175A(a)). The maintenance plan submitted by Tennessee followed EPA guidance for maintenance areas, subject to section 175A of the CAA.

On October 30, 1996, EPA approved Tennessee's request to redesignate the Nashville Area to attainment for the 1-hour ozone NAAQS (61 FR 55903). The maintenance plan for the Area became effective on October 30, 1996. Tennessee later updated the maintenance plan in accordance with section 175(A)(b) on August 10, 2005, to extend the maintenance plan to cover additional years such that the entire maintenance period was for at least 20 years after the initial redesignation of the Area to attainment. EPA approved Tennessee's maintenance plan update for the Nashville Area on November 1, 2005 (see 70 FR 65838).

On April 30, 2004, EPA designated and classified areas for the 1997 8-hour ozone NAAQS (69 FR 23858), and published the final Phase 1 Rule for implementation of the 1997 8-hour ozone NAAQS (69 FR 23951) (Phase 1 Rule), ultimately revoking the 1-hour ozone NAAQS. The Nashville Area, however, was still required to fulfill requirements under the 1-hour ozone NAAQS due to its participation in an Early Action Compact (EAC). For areas participating in an EAC, the effective designation date for the 1997 8-hour ozone NAAQS was deferred until December 31, 2006, in a final action published by EPA on August 19, 2005 (70 FR 50988) and later extended to April 15, 2008 (71 FR 69022) for most of the EAC Areas, including Nashville, so long as the Area continued to meet milestone requirements. Therefore, the requirement for an attainment area to submit a 10-year maintenance plan under 110(a)(1) of the CAA and the Phase 1 Rule was also postponed until the Area was effectively designated for the 1997 8-hour ozone NAAQS. The Nashville Area was later designated as attainment for the 1997 8-hour ozone NAAQS, effective April 15, 2008, with the 1-hour ozone requirements no longer effective on April 15, 2009 (73 FR 17897). The attainment area was consequently required to submit a 10-year maintenance plan under section 110(a)(1) of the CAA and the Phase 1 Rule.

On May 20, 2005, EPA issued guidance providing information on how a state might fulfill the maintenance plan obligation established by the CAA and the Phase 1 Rule (Memorandum from Lydia N. Wegman to Air Division Directors, Maintenance Plan Guidance Document for Certain 8-hour Ozone Areas Under Section 110(a)(1) of Clean Air Act, May 20, 2005, hereafter referred to as the “Wegman Memorandum”). On December 22, 2006, the United States Court of Appeals for the District of Columbia Circuit issued an opinion that vacated EPA's Phase 1 Rule for the 1997 8-hour ozone NAAQS. South Coast Air Quality Management District (SQAMD) v. EPA, 472 F.3d 882 (D.C. Cir. 2006). The Court vacated those portions of the Phase 1 Rule that provided for regulation of the 1997 8-hour ozone nonattainment areas designated under Subpart 1 in lieu of Subpart 2 (of part D of the CAA), among other portions. The Court's decision does not alter any requirements under the Phase 1 Rule for section 110(a)(l) maintenance plans.

EPA is proposing to take action to approve Tennessee's August 3, 2010, SIP revision, submitted for parallel processing, which satisfy CAA section 110(a)(1) CAA requirements for a plan providing for maintenance of the 1997 8-hour ozone NAAQS in the Nashville Area.

II. EPA's Analysis of Tennessee's Submittal

On August 3, 2010, the State of Tennessee, through the TDEC and the Metro Nashville/Davidson County Pollution Control Division Office, submitted a proposed SIP revision for parallel processing containing the 1997 8-hour ozone maintenance plan for the Nashville Area as required by section 110(a)(1) of the CAA and the provisions of EPA's Phase 1 Rule (see 40 CFR 51.905(a)(4)). The purpose of the plan is to ensure continued attainment and maintenance of the 1997 8-hour ozone NAAQS until 2018 for this attainment area.

The August 3, 2010, SIP revision is not yet state-effective, therefore, Tennessee has requested that EPA “parallel process” the SIP revision. Under this procedure, the Regional Office works closely with the state while developing new or revised regulations. Generally, the state submits a copy of the proposed regulation or other revisions to EPA before conducting its public hearing. EPA reviews this proposed state action, and prepares a notice of proposed rulemaking. EPA's notice of proposed rulemaking is published in the Federal Register during approximately the same time frame that the state is holding its public hearing. The state and EPA then provide for public comment periods on both the state and federal actions.

After Tennessee submits the formal state-effective SIP revision request (including a response to all public comments raised during the state's public participation process, and the 1997 8-hour ozone 110(a)(1) maintenance plan), EPA will prepare a final rulemaking notice for the SIP revision. If Tennessee's rulemaking to address the 1997 8-hour ozone 110(a)(1) maintenance plan contains changes which occur after EPA's notice of proposed rulemaking, such change must be described in EPA's final rulemaking action. If Tennessee's changes are significant, EPA must decide whether it is appropriate to repropose action on the state's changes to their submittal to address the 1997 8-hour ozone 110(a)(1) maintenance plan.

As required, the plan provides for continued attainment and maintenance of the 1997 8-hour ozone NAAQS in the Nashville Area for at least 10 years from the effective date of this Area's designation as attainment for the 1997 8-hour ozone NAAQS. The plan also includes components illustrating how the Area will continue attainment of the 1997 8-hour ozone NAAQS, and provides contingency measures. The Section 110(a)(1) plan components are discussed below for the Nashville Area.

(a) Attainment Inventory. In order to demonstrate maintenance in the aforementioned area, Tennessee developed comprehensive inventories of volatile organic compounds (VOC) and nitrogen oxide (NOX) emissions from area, point, on-road mobile, non-road mobile, and aircraft, locomotive, and commercial marine (ALM) sources using 2007 as the base year. According to the May 20, 2005, guidance, a state may use one of the three years for which the 1997 8-hour attainment designation was based (2001, 2002, and 2003) as their attainment inventory base year. However, due to the fact that the Nashville Area was an EAC area, the effective date of designation was deferred to April 15, 2008, and therefore consideration of a later base year of 2005, 2006, or 2007 was required for the purpose of an emissions inventory. For the purpose of this maintenance plan, Tennessee chose 2007 as the attainment level emissions base year for the Nashville Area. The state's submittal contains the detailed inventory data and summaries by source category for the Nashville Area.

In accordance with Consolidated Emissions Reporting Rule requirements (CERR), Tennessee compiles a statewide emissions inventory for point sources on an annual basis. On-road mobile emissions of VOC and NOX were estimated using MOBILE6.2 motor vehicle emissions factor computer model. Non-road mobile emissions data were derived using the U.S. EPA's NONROAD 2008 model. ALM emissions were primarily estimated based on EPA's National Emissions Inventory.

In projecting data for the maintenance year 2018 emissions inventories, Tennessee used several methods to project data from the base year 2007 to the interim years 2010, 2014, and 2018. These projected inventories were developed using EPA-approved technologies and methodologies including the Southeastern Emissions Modeling, Analysis, and Planning methodology. Projected point, area, and non-road mobile source inventories were developed using the 2007 base year inventories and economic growth factors from EPA's Economic Growth and Analysis System.

The following tables provide VOC and NOX emissions data for the 2007 base attainment year inventories, as well as projected VOC and NOX emissions inventory data for 2010, 2014, and 2018. The Phase 1 Rule provides that the 10-year maintenance period begin as of the effective date of designation for the 1997 8-hour NAAQS for the Area. The designations for the 13 EAC attainment areas (of which Nashville was one) were effective in April 2008 so the maintenance period must end no earlier than 2018.

Table 1—2007 VOC and NOX Base Year Emissions Inventory for the Nashville Area
[Tons/day]
County | Point | Area | Onroad | Nonroad | ALM | Total *
| —NOX emissions—
Davidson | 11.52 | 0.62 | 45.70 | 9.57 | 3.35 | 70.76
Rutherford | 0.33 | 2.79 | 17.29 | 5.45 | 1.26 | 27.11
Sumner | 18.74 | 0.24 | 6.07 | 2.57 | 0.78 | 28.41
Williamson | 0.06 | 0.86 | 12.60 | 3.58 | 1.36 | 18.47
Wilson | 0.00 | 1.23 | 13.12 | 2.19 | 0.15 | 16.68
Total * | 30.65 | 5.75 | 94.79 | 23.36 | 6.90 | 161.44

County | Point | Area | Onroad | Nonroad | ALM | Total
| —VOC emissions—
Davidson | 5.05 | 20.98 | 17.73 | 15.06 | 0.60 | 59.42
Rutherford | 5.97 | 11.02 | 6.65 | 4.44 | 0.20 | 28.28
Sumner | 0.97 | 6.78 | 3.53 | 2.68 | 0.08 | 14.05
Williamson | 0.31 | 6.00 | 5.05 | 2.64 | 0.07 | 14.06
Wilson | 0.00 | 4.88 | 3.32 | 4.80 | 0.05 | 13.04
Total * | 12.31 | 49.66 | 36.27 | 29.62 | 1.00 | 128.85
* Due to conventional rounding rules, emission totals listed in Tables 1 and 2 may not reflect the absolute mathematical totals.

Table 2—Projected VOC and NOX Emissions Inventory for the Nashville Area
[Tons/day]
Source type | 2007 | 2010 | 2014 | 2018
| —NOX emissions—
Point | 30.65 | 30.33 | 31.59 | 31.61
Area | 5.75 | 5.88 | 6.07 | 6.25
Onroad | 94.79 | 76.72 | 55.79 | 28.53
Nonroad | 23.36 | 21.08 | 16.38 | 12.37
ALM | 6.90 | 6.93 | 7.12 | 7.36
Total * | 161.44 | 140.93 | 116.95 | 86.11
| —VOC emissions—
Point | 12.31 | 12.49 | 13.18 | 14.50
Area | 49.66 | 51.48 | 54.14 | 57.77
Onroad | 36.27 | 30.43 | 22.13 | 14.84
Nonroad | 29.62 | 25.87 | 20.27 | 16.70
ALM | 1.00 | 1.07 | 1.17 | 1.27
Total * | 128.85 | 121.34 | 110.88 | 105.07
* Due to conventional rounding rules, emission totals listed in Tables 1 and 2 may not reflect the absolute mathematical totals.

As shown in Table 2 above, the Nashville Area is projected to steadily decrease its total VOC and NOX emissions from the base year of 2007 to the maintenance year of 2018. This VOC and NOX emission decrease demonstrates continued attainment/maintenance of the 1997 8-hour ozone NAAQS for ten years from 2008 (i.e., the year the Area was effectively designated attainment for the 1997 8-hour ozone NAAQS) as required by the CAA and Phase 1 Rule. NOX and VOC emissions are expected to decrease approximately 47 and 18 percent, respectively, from the attainment base year to 2018. These projected reductions of ozone precursors ensure continued maintenance of the 1997 8-hour ozone NAAQS.

The attainment inventories submitted by Tennessee for this Area are consistent with the criteria as discussed in the Wegman Memorandum. EPA finds that the future emission levels for the projected years 2010, 2014, and 2018, are expected to be less than the attainment level emissions in 2007. In the event that future 1997 8-hour ozone monitoring values in the Area are found to violate the 1997 8-hour ozone NAAQS, the contingency plan section of the Area's maintenance plan includes measures that will be promptly implemented to ensure that the Area returns to maintenance of the 1997 ozone NAAQS. Please see section (d) Contingency Plan, below, for additional information related to the contingency measures in the maintenance plan.

(b) Maintenance Demonstration. The primary purpose of a maintenance plan is to demonstrate how an area will continue to remain in attainment with the 1997 8-hour ozone standards for the 10-year period following the effective date of designation as unclassifiable/attainment. The required end projection year for the Nashville Area is 2018. As discussed in section (a) Attainment Inventory above, Tennessee identified the level of ozone-forming emissions that were consistent with attainment of the NAAQS for ozone in 2007. Tennessee projected VOC and NOX emissions for 2010, 2014, and 2018. EPA finds that the future emissions levels in these years are expected to be below the emissions levels in 2007 in the Nashville Area.

Tennessee's SIP revision for the maintenance plan for the Nashville Area also relies on the closure of large parts of the operations of E.I. du Pont Nemours and Company located in Davidson County resulting in significant reductions of both VOC and NOX. The Nashville Attainment Area is also benefiting from the following reductions that are occurring in other states in the Southeast: (1) North Carolina Clean Smokestacks Act, (2) Atlanta/Northern Kentucky/Birmingham 1-hour SIPs, (3) NOX reasonably available control technology in 1997 8-hour ozone nonattainment area SIP, and (4) implementation of NOX SIP Call Phase 1 in southeastern states. Moreover, despite the legal status of the Clean Air Interstate Rule (CAIR) as remanded, many facilities have already installed or are continuing with plans to install emission controls that may benefit the Nashville Area.

(c) Consideration of CAIR. The NOX SIP Call requires states to make significant, specific emissions reductions. It also provided a mechanism, the NOX Budget Trading Program, which states could use to achieve those reductions. When EPA promulgated CAIR, it discontinued (starting in 2009) the NOX Budget Trading Program, 40 CFR 51.121(r), but created another mechanism—the CAIR ozone season trading program—which states could use to meet their SIP Call obligations (70 FR 25289-90). EPA notes that a number of states, when submitting SIP revisions to require sources to participate in the CAIR ozone season trading program, removed the SIP provisions that required sources to participate in the NOX Budget Trading Program. In addition, because the provisions of CAIR, including the ozone season NOX trading program, remain in place during the remand (North Carolina v. EPA, 550 F.3d 1176 (DC Cir. 2008)), EPA is not currently administering the NOX Budget Trading Program. Nonetheless, all states, regardless of the current status of their regulations that previously required participation in the NOX Budget Trading Program, will remain subject to all of the requirements in the NOX SIP Call, even if the existing CAIR ozone season trading program is withdrawn or altered. In addition, the anti-backsliding provisions of 40 CFR 51.905(f) specifically provide that the provisions of the NOX SIP Call, including the statewide NOX emission budgets, continue to apply after revocation of the 1-hour standards.

All NOX SIP Call states have SIPs that currently satisfy their obligations under the SIP Call, the SIP Call reduction requirements are being met, and EPA will continue to enforce the requirements of the NOX SIP Call even after any response to the CAIR remand. For these reasons, EPA believes that regardless of the status of the CAIR program, the NOX SIP call requirements can be relied upon in demonstrating maintenance.

(d) Ambient Air Quality Monitoring. The table below shows design values ¹ for the Nashville Area. The ambient ozone monitoring data were collected at sites that were selected with assistance from EPA and are considered representative of the areas of highest concentration. The State of Tennessee and Metro Nashville/Davidson County Pollution Control Division Office will continue to conduct ambient air quality monitoring programs for ozone in their respective areas. All monitoring programs will continue in accordance with applicable EPA monitoring requirements contained in 40 CFR part 58. Any modification to the ambient air monitoring network will be accomplished through close consultation with EPA. The Nashville Area has not had a monitor design value that exceeded the 1997 8-hour NAAQS since the 2001-2003 design value time-period as seen in Table 3.²

¹ The air quality design value at a monitoring site is defined as the concentration that when reduced to the level of the standard ensures that the site meets the standard. For a concentration-based standard, the air quality design value is simply the standard-related test statistic. Thus, for the primary and secondary 1997 8-hour ozone standards, the 3-year average annual forth-highest daily maximum 8-hour average ozone concentration is also the air quality design value for the site. 40 CFR part 50, appendix I, section 3.

² Under EPA regulations found at 40 CFR part 50, the 1997 8-hour ozone NAAQS are attained when the 3-year average of the annual fourth-highest daily maximum 8-hour ambient air quality ozone concentrations is less than 0.08 parts per million (i.e., 0.084 when rounding is considered).

Table 3—Maximum 8-Hour Ozone Design Values
[Parts per million]
Years | Design value
1994-1996 | 0.099
1995-1997 | 0.099
1996-1998 | 0.101
1997-1999 | 0.102
1998-2000 | 0.100
1999-2001 | 0.093
2000-2002 | 0.088
2001-2003 | 0.086
2002-2004 | 0.083
2003-2005 | 0.082
2004-2006 | 0.083
2005-2007 | 0.084
2006-2008 | 0.084
2007-2009 | 0.078

The maximum design value for 2007 through 2009 identified in Table 3 demonstrate attainment of the 1997 8-hour ozone NAAQS at a level of 0.079 parts per million (ppm). Further, these design values indicate that the Nashville maintenance Area is expected to continue attainment of the 1997 8-hour ozone NAAQS based on a gradual decrease in the design values. The attainment level for the 1997 8-hour ozone standards is 0.080 ppm, effectively 0.084 ppm with the rounding convention. In the event that a design value for the Nashville Area monitors exceed the 1997 8-hour ozone standards, one or more contingency measures included in Tennessee's maintenance plan would be promptly implemented in accordance with the contingency plan, as discussed below.

(e) Contingency Plan. In accordance with 40 CFR 51.905(a)(4)(ii) and the Wegman Memorandum, the Section 110(a)(1) maintenance plan includes contingency provisions to promptly correct a violation of the 1997 8-hour ozone NAAQS that may occur. The state of Tennessee has established two triggers to activate contingency measures including: (1) Quality assured ambient air quality monitoring data showing a violation of the 1997 8-hour ozone NAAQS at any monitor, and (2) an increase in the actual ozone precursor emissions of at least ten percent over the 2007 emissions inventory. In the maintenance plan, if contingency measures are triggered, the State of Tennessee and Metro Nashville/Davidson County Pollution Control Division Office are committed to implement the measures as expeditiously as practicable, including adopting one or more contingency measures as expeditiously as practical and implementing the measures within twenty-four months of the triggering event. The contingency measures include: (1) Expansion of NOX and/or VOC control strategies in the Nashville Maintenance Area; (2) in conjunction with the State of Tennessee, implementation of mobile source transportation controls such as reduced speed limits for heavy duty diesel vehicles; (3) lowering major source thresholds; (4) expansion of the open burning ban in Davidson County to include homeowners in the area; (5) implementation of anti-idling legislation; and/or (6) any other control measure determined to be appropriate at the time a trigger is exceeded.

These contingency measures and schedules for implementation satisfy EPA's long-standing guidance on the requirements of section 110(a)(1) of continued attainment. Continued attainment of the 1997 8-hour ozone NAAQS in the Nashville Area will depend, in part, on the air quality measures discussed previously (see section II). In addition, the State of Tennessee and Metro Nashville/Davidson County Pollution Control Division Office commit to verify the 1997 8-hour ozone status in this maintenance plan through periodic ozone precursor emission inventory updates. Emission inventory updates will be completed by 18 months following the end of the inventory year to verify continued attainment of the 1997 8-hour ozone NAAQS.

III. Proposed Action

Pursuant to section 110(a)(1) of the CAA, EPA is proposing to approve the maintenance plan addressing the 1997 8-hour ozone standards in the Nashville Area, submitted by the State of Tennessee, through TDEC, on August 3, 2010. The maintenance plan ensures continued attainment of the 1997 8-hour ozone NAAQS through the maintenance year 2018. EPA has evaluated Tennessee's submittal and has preliminarily determined that it meets the applicable requirements of the CAA and EPA regulations, and is consistent with EPA policy.

On March 12, 2008, EPA issued revised ozone NAAQS. On September 16, 2009, EPA announced it would reconsider the 2008 NAAQS for ozone and proposed a new schedule for designations for the reconsidered NAAQS. The current action, however, is being taken to address requirements under the 1997 8-hour ozone standards. Requirements for the Nashville Area under the 2010 reconsidered ozone NAAQS will be addressed in the future.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this proposed action merely approves state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Ozone, Volatile organic compounds.

Authority: 42 U.S.C. 7401 et seq.

Dated: September 28, 2010.
Gwendolyn Keyes Fleming,
Regional Administrator, Region 4.

[FR Doc. 2010-25448 Filed 10-7-10; 8:45 am]

BILLING CODE 6560-50-P